DEPARTMENT OF HOMELAND SECURITY

Federal Emergency Management Agency

44 CFR Part 65

[Docket ID FEMA-2011-0002; Internal Agency Docket No. FEMA-B-1219]

Changes in Flood Elevation Determinations

Correction

In rule document 2011-25157 appearing on pages 60748-60751 in the issue of Friday, September 30, 2011, make the following corrections:

§ 65.4 [Corrected]

1. In the table appearing on page 60750, in the column titled “Chief executive officer of the community”, the eighth entry from the bottom of the page, “199 Town Center, Parkway Spring Hill, TN 37174” should read “199 Town Center Parkway, Spring Hill, TN 37174”.

2. In the table appearing on page 60750, the last entry in the column titled “Chief executive officer of the community”, “301 West 2nd Street, 2nd Floor Austin, Texas 78701” should read “301 West 2nd Street, 2nd Floor, Austin, Texas 78701”.

[FR Doc. C1-2011-25157 Filed 4-5-12; 8:45 am]

BILLING CODE 1505-01-P